DEPARTMENT OF HEALTH AND HUMAN SERVICES

Centers for Disease Control and Prevention

Disease, Disability, and Injury Prevention and Control Special Emphasis Panel (SEP): Hearing Sensitivity and Exposure to Noise and/or Chemicals, RFA OH-02-003.

In accordance with section 10(a)(2) of the Federal Advisory Committee Act (Pub. L. 92-463), the Centers for Disease Control and Prevention (CDC) announces the following meeting:

Name: Disease, Disability, and Injury Prevention and Control Special Emphasis Panel (SEP): Hearing Sensitivity and Exposure to Noise and/or Chemicals, RFA OH-02-003.

Times and Dates: 8 a.m.-8:30 a.m., March 14, 2002 (Open) 8:30 a.m.-5 p.m., March 14, 2002 (Closed)

Place: Hilton Old Town, 1767 King Street, Alexandria, Virginia 22314.

Status: Portions of the meeting will be closed to the public in accordance with provisions set forth in section 552b(c) (4) and (6), Title 5 U.S.C., and the Determination of the Deputy Director for Program Management, CDC, pursuant to Pub. L. 92-463.

Matters To Be Discussed: The meeting will include the review, discussion, and evaluation of applications received in response to RFA OH-02-003.

Contact Person for More Information: Price Connor, Ph.D., Scientific Review Administrator, National Institute for Occupational Safety and Health, CDC, 1600 Clifton Road, NE, M/S E20, telephone (404) 498-2511.

The Director, Management Analysis and Services Office has been delegated the authority to sign Federal Register notices pertaining to announcements of meetings and other committee management activities, for both the Centers for Disease Control and Prevention and the Agency for Toxic Substances and Disease Registry.

Dated: January 30, 2002.
Alvin Hall,
Acting Director, Management Analysis and Services Office, Centers for Disease Control and Prevention (CDC).

[FR Doc. 02-2942 Filed 2-6-02; 8:45 am]

BILLING CODE 4163-19-P